DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Swordfish Fishery Survey.

OMB Control Number: 0648-xxxx.

Form Number(s): None.

Type of Request: Regular (request for a new information collection).

Number of Respondents: 77.

Average Hours per Response: 1 hour.

Burden Hours: 77.

Needs and Uses: This request is for a new information collection.

The Southwest Fisheries Science Center (SWFSC) is undertaking an economics data collection effort for the West Coast Swordfish Fishery (WCSF) in order to improve the SWFSC's capability to do the following: (1) Describe and monitor economic performance (e.g., profitability, capacity utilization, efficiency, and productivity) and impacts (e.g., sector, community, or region-specific employment and income); (2) determine the quantity and distribution of net benefits derived from living marine resources; (3) understand and predict the ecological, and behavior of participants in Federally managed commercial fisheries; (4) predict the biological, ecological, and economic impacts of existing management measures and alternative proposed management actions; and (5) in general, more effectively conduct the analyses required under the MSA, the Endangered Species Act (ESA), and the Marine Mammal Protection Act (MMPDA), the National Environmental Policy Act (NEPA), and Regulatory Flexibility Act (RFA), Executive Order 12866, and other applicable laws.

Affected Public: Business or other for-profit organizations.

Frequency: One time only.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 31, 2017.
Sarah Brabson,
NOAA PRA Clearance Officer.

[FR Doc. 2017-02296 Filed 2-2-17; 8:45 am]

BILLING CODE 3510-22-P